DEPARTMENT OF THE INTERIOR

National Park Service

[NPS-PWR-PWRO-14735; PX.P0073969J.00.1]

Final Environmental Impact Statement for General Management Plan for Golden Gate National Recreation Area and Muir Woods National Monument, Counties of Marin, San Francisco, and San Mateo, CA

AGENCY: National Park Service.

ACTION: Notice of availability.

SUMMARY: The National Park Service has prepared the Final Environmental Impact Statement (Final EIS) for the proposed General Management Plan (GMP) for Golden Gate National Recreation Area and Muir Woods National Monument. The Final EIS/GMP evaluates four alternatives for managing Golden Gate National Recreation Area and Muir Woods, and upon approval the GMP will serve as a blueprint to guide management of these units of the National Park System over the next 20 years.

DATES: The National Park Service will execute a Record of Decision (ROD) no sooner than 30 days following Federal Register publication by the Environmental Protection Agency of its notice of filing and availability of the Final EIS.

ADDRESSES: An electronic version of the Final EIS/GMP will be available for public inspection on the project Web site, and a limited number of CDs and printed copies will be made available at park headquarters. Printed or CD copies may also be requested by contacting Golden Gate National Recreation Area, Fort Mason, Building 201, San Francisco, CA 94123; telephone (415) 561-4930.

Background

Established in 1972 to bring “parks to the people”, until now Golden Gate National Recreation Area (GGNRA) has been operating under the 1980 GMP. During the 30 years since the first GMP was approved, GGNRA has doubled in size and visitation now approaches 16 million annually. The management staff has gained a better understanding of the natural and cultural resources of the park and the many recreational uses that occur within the park areas. Muir Woods was declared a national monument in 1908 and is currently managed as part of GGNRA.

Public scoping was initiated in the spring of 2006. The Notice of Intent to prepare an EIS was published in the Federal Register on March 29, 2006. Five public scoping meetings were held in the area; approximately 300 participants overall provided relevant information which was duly considered in drafting preliminary alternatives. The preliminary alternatives were initially reviewed with the public at meetings held in June, 2008 (over 1,500 substantive comments were collected). Additionally, numerous coordination meetings were conducted with local agencies and partner organizations. An update on the evolving preferred alternative was provided to the public in the summer, 2009. The Draft EIS/GMP was released on September 9, 2011 with comments accepted through December 9, 2011. Three public meetings were hosted. Approximately 540 pieces of correspondence were received. Some plan content was modified based on public comments, but there have been very few substantial changes to the alternatives under consideration.

Proposed Plan and Alternatives

The Final EIS/GMP describes and analyzes four alternatives. The no-action alternative consists of the existing park management and serves as a comparative basis for evaluating the other alternatives.

Alternative 1, “Connecting People with the Parks,” would further the founding idea of “parks to the people” and would engage the community and other visitors in the enjoyment, understanding, and stewardship of the park's resources and values. Park management would focus on ways to attract and welcome people, connect people with the resources, and promote understanding, enjoyment, preservation, and health. Alternative 1 is the “agency-preferred” alternative for managing most park lands in Marin, San Francisco, and San Mateo Counties.

Alternative 2, “Preserving and Enjoying Coastal Ecosystems,” would place an emphasis on preserving, enhancing, and promoting the dynamic and interconnected coastal ecosystems in which marine resources are valued and prominently featured. Recreational and educational opportunities would allow visitors to learn about and enjoy the ocean and bay environments, and gain a better understanding of the region's international significance and history.

Alternative 3, “Focusing on National Treasures,” would place an emphasis on the park's nationally important natural and cultural resources. The fundamental resources of each showcased site would be managed at the highest level of preservation to protect the resources in perpetuity and to promote appreciation, understanding, and enjoyment of those resources. Visitors would have the opportunity to explore locally the wide variety of experiences that are associated with many different types of units of the National Park System. All other resources would be managed to complement the nationally significant resources and associated visitor experiences. Alternative 3 is the “agency-preferred” alternative for Alcatraz Island and Muir Woods National Monument.

Alternative 1 is the “environmentally preferred” course of action for lands in Marin, San Francisco, and San Mateo Counties. Alternative 3 is “environmentally preferred” for Muir Woods National Monument and Alcatraz Island.

Decision Process: As a delegated EIS the official responsible for approval of the GMP is the Regional Director, Pacific West Region. Subsequently the official responsible for implementing the new GMP is the General Superintendent, Golden Gate National Recreation Area.

Dated: December 27, 2013.
Martha J. Lee,
Acting Regional Director, Pacific West Region.

[FR Doc. 2014-09883 Filed 4-29-14; 8:45 am]

BILLING CODE 4312-FF-P